AFRICAN DEVELOPMENT FOUNDATION

Sunshine Act Meeting

TIME: 10:00 am-4:00 pm.

PLACE: ADF Headquarters.

DATE: Friday, 26 January 2001.

STATUS: Open.

Agenda

10:00 am Chairman's Report

10:30 am-12:00 pm President's Report

12:00 pm Lunch

1:00-2:30 pm President's Report (Continued)

2:30-4:00 pm Executive Session (Closed)

4:00 pm Adjournment

If you have any questions or comments, please direct them to Doris Martin, General Counsel, who can be reached at (202) 673-3916.

Nathaniel Fields,
President.

[FR Doc. 01-1860 Filed 1-17-01; 4:19 pm]

BILLING CODE 6116-01-M